DEPARTMENT OF COMMERCE

National Oceanic and Atmospheric Administration

Mid-Atlantic Fishery Management Council; Public Meeting

AGENCY: National Marine Fisheries Service (NMFS), National Oceanic and Atmospheric Administration (NOAA), Commerce.

ACTION: Notice of a public meeting.

SUMMARY: The Scientific and Statistical Committee (SSC) of the Mid-Atlantic Fishery Management Council (Council) will hold a meeting.

DATES: The SSC will meet Wednesday and Thursday, May 23-24, 2012 beginning at 10 a.m. on May 23 and conclude by 4 p.m. on May 24.

ADDRESSES: The meeting will be held at the Pier V Hotel, 711 Eastern Avenue, Baltimore, MD 21202; telephone: (410) 539-2000.

Council address: Mid-Atlantic Fishery Management Council, 800 N. State Street, Suite 201, Dover, DE 19901; telephone: (302) 674-2331.

FOR FURTHER INFORMATION CONTACT: Christopher M. Moore Ph.D., Executive Director, Mid-Atlantic Fishery Management Council, 800 N. State Street, Suite 201, Dover, DE 19901; telephone: (302) 526-5255.

SUPPLEMENTARY INFORMATION: The primary purpose of the SSC meeting includes: Review multi-year specifications for Loligo and Illex squid; reaffirm 2012 ABC recommendation for butterfish; review performance of butterfish mortality cap program; make 2013-15 ABC recommendations for butterfish and Atlantic mackerel; review and adopt criteria for establishing multi-year ABC recommendations; review RSA funded projects for 2012; and receive report of the Ecosystems Subcommittee (review Ecosystem Guidance Document outline).

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to M. Jan Saunders at the Mid-Atlantic Council Office, (302) 526-5251, at least 5 days prior to the meeting date.

Dated: May 1, 2012.
Tracey L. Thompson,
Acting Director, Office of Sustainable Fisheries, National Marine Fisheries Service.

[FR Doc. 2012-10763 Filed 5-3-12; 8:45 am]

BILLING CODE 3510-22-P